Title 3—

The President

Proclamation 8296 of September 30, 2008

To Modify Duty-free Treatment Under The Caribbean Basin Economic Recovery Act and for Other Purposes

By the President of the United States of America

A Proclamation

1. Section 213A(b) of the Caribbean Basin Economic Recovery Act (19 U.S.C. 2703a(b)) (the “CBERA”), as amended by section 15402(a)(2) of the Haitian Hemispheric Opportunity through Partnership Encouragement Act of 2008 (part 1 of subtitle D of title XV of Public Law 110-246, 122 Stat. 2289) (the “HOPE II Act”), provides that preferential tariff treatment may be provided for certain apparel and other articles originating in Haiti that are imported directly from Haiti or the Dominican Republic into the customs territory of the United States.

2. Pursuant to section 213A(f)(3) of CBERA (19 U.S.C. 2703a(f)(3)), as redesignated by section 15403(2) of the HOPE II Act (122 Stat. 2302), apparel and other articles described in section 213A(b) of CBERA that are shipped from the Dominican Republic to the United States directly or through the territory of an intermediate country shall not qualify for the preferential tariff treatment provided for under section 213A(b) until the President certifies to the Congress that Haiti and the Dominican Republic have developed procedures to prevent unlawful transshipment of the articles and the use of counterfeit documents related to the importation of the articles into the United States.

3. I have determined, and hereby certify, that Haiti and the Dominican Republic have developed the procedures described in section 213A(f)(3) of CBERA.

4. Section 15406 of the HOPE II Act (122 Stat. 2308) authorizes the President to exercise the authority provided under section 604 of the Trade Act of 1974, as amended (19 U.S.C. 2483) (the “1974 Act”), to proclaim such modifications to the Harmonized Tariff Schedule of the United States (HTS) as may be necessary to carry out the HOPE II Act.

5. I have determined that it is appropriate to authorize the United States Trade Representative (USTR) to perform the following functions: the functions set forth in section 213A(d)(4) of CBERA, as amended (122 Stat. 2307; 19 U.S.C. 2703a(d)(4)); the reporting function set forth in section 213A(e)(1)(B)(ii) of CBERA, as amended (122 Stat. 2302; 19 U.S.C. 2703a(e)(1)(B)(ii)); the consultation function set forth in section 213A(e)(1)(C)(i) of CBERA, as amended (122 Stat. 2302-3; 19 U.S.C. 2703a(e)(1)(C)(i)); and the functions set forth in section 213A(e)(5) of CBERA, as amended (122 Stat. 2307; 19 U.S.C. 2703a(e)(5)).

6. I have determined that it is appropriate to authorize the Secretary of Labor, in consultation with the USTR, to perform the functions related to identifying producers and seeking to provide assistance to such producers set forth in section 213A(e)(4)(B)(i) and (ii) of CBERA, as amended (122 Stat. 2306; 19 U.S.C. 2703a(e)(4)(B)(i), (ii)).

7. In Presidential Proclamation 8272 of June 30, 2008, I waived, pursuant to section 503(d)(1) of the 1974 Act (19 U.S.C. 2463(d)(1)), the application of the competitive need limitations in section 503(c)(2)(A) of the 1974 Act (19 U.S.C. 2463(c)(2)(A)) with respect to certain articles from Turkey. A technical rectification to the HTS is required to provide the intended tariff treatment.

8. Section 604 of the 1974 Act authorizes the President to embody in the HTS the substance of relevant provisions of that Act, or other acts affecting import treatment, and of actions taken thereunder.

NOW, THEREFORE, I, GEORGE W. BUSH, President of the United States of America, acting under the authority vested in me by the Constitution and the laws of the United States of America, including section 15406 of the HOPE II Act, section 604 of the 1974 Act, and section 301 of title 3, United States Code, do proclaim that:

(1) In order to provide the tariff treatment for articles imported directly from Haiti or the Dominican Republic provided for in section 213A(b) of CBERA, as amended by the HOPE II Act, the HTS is modified as set forth in the Annex to this proclamation.

(2) The modifications to the HTS set forth in the Annex to this proclamation shall be effective with respect to articles entered, or withdrawn from warehouse for consumption, on or after the date set forth in the Annex.

(3) The USTR is hereby authorized to perform the functions set forth in section 213A(d)(4) of CBERA; the reporting function set forth in section 213A(e)(1)(B)(ii) of CBERA; the consultation function set forth in section 213A(e)(1)(C)(i) of CBERA; and the functions set forth in section 213A(e)(5) of CBERA.

(4) The Secretary of Labor, in consultation with the USTR, is hereby authorized to perform the functions related to identifying producers and seeking to provide assistance to such producers set forth in section 213A(e)(4)(B)(i) and (ii) of CBERA.

(5) In order to correct technical errors in Presidential Proclamation 8272, General Note 4(d) of the HTS is modified by deleting “7413.00.50 Turkey,” and the Rates of Duty 1-Special subcolumn for HTS subheading 7413.00.50 is modified by deleting the symbol “A*” and inserting the symbol “A” in lieu thereof, effective with respect to goods entered, or withdrawn from warehouse for consumption, on or after July 1, 2008.

(6) The USTR shall notify the Congress of this proclamation and certification.

(7) Any provisions of previous proclamations and Executive Orders that are inconsistent with the actions taken in this proclamation are superseded to the extent of such inconsistency.

IN WITNESS WHEREOF, I have hereunto set my hand this thirtieth day of September, in the year of our Lord two thousand eight, and of the Independence of the United States of America the two hundred and thirty-third.

Billing code 3195-W9-P

[FR Doc. E8-23562

Filed 10-2-W9 8:45 am]

Billing code 3190-01-C